DEPARTMENT OF AGRICULTURE

Forest Service

Proposed Recreation Fee Sites

AGENCY: Forest Service, Agriculture (USDA).

ACTION: Notice.

SUMMARY: The Black Hills National Forest is proposing to establish three recreation fee sites and a special recreation permit. Proposed recreation fees collected at the proposed recreation fee sites and for the proposed special recreation permit would be used for operation, maintenance, and improvement of the sites and the specialized recreation use covered by the proposed special recreation permit. An analysis of nearby recreation fee sites with similar amenities shows the proposed recreation fees that would be charged at the proposed recreation fee sites and for the proposed special recreation permit are reasonable and typical of similar recreation fee sites and specialized recreation uses in the area.

DATES: If approved, the proposed recreation fees would be established no earlier than six months following the publication of this notice in the Federal Register.

ADDRESSES: Black Hills National Forest, Attention: Recreation Fees, 1019 North 5th Street, Custer, SD 57730.

FOR FURTHER INFORMATION CONTACT: Bradley Block, Recreation Program Manager, 605-673-9200 or bradley.block@usda.gov.

SUPPLEMENTARY INFORMATION: The Federal Lands Recreation Enhancement Act (16 U.S.C. 6803(b)) requires the Forest Service to publish in the Federal Register a six-month advance notice of establishment of proposed recreation fee sites and proposed special recreation permits. In accordance with Forest Service Handbook 2309.13, chapter 30, the Forest Service will publish the proposed recreation fee sites, proposed special recreation permit, and proposed recreation fees in local newspapers and other local publications for public comment. Most of the proposed recreation fees would be spent where they are collected to enhance the visitor experience at the proposed recreation fee sites and in connection with the specialized recreation use covered by the proposed special recreation permit.

A proposed expanded amenity recreation fee of $50 per night would be charged for rental of Meeker Cabin. A proposed standard amenity recreation fee of $5 per day per vehicle would be charged at Jenny Gulch Picnic Site and Wrinkled Rock-Climbing Area. The America the Beautiful—the National Parks and Federal Recreational Lands Pass would be honored at these standard amenity recreation fee sites. A proposed special recreation permit and proposed special recreation permit fee of $10 per day per vehicle are proposed for the Black Hills Motorized Trail Systems.

Expenditures of recreation fees collected at the proposed recreation fee sites and for the proposed special recreation permit would enhance recreation opportunities, improve customer service, and address maintenance needs. Once public involvement is complete, the proposed recreation fee sites, proposed special recreation permit, and proposed recreation fees will be reviewed by a Recreation Resource Advisory Committee prior to a final decision and implementation. Reservations for Meeker Cabin could be made online at www.recreation.gov or by calling 877-444-6777. Reservations would cost $8.00 per reservation.

Dated: August 26, 2024.
Jacqueline Emanuel,
Associate Deputy Chief, National Forest System.

[FR Doc. 2024-19545 Filed 8-29-24; 8:45 am]

BILLING CODE 3411-15-P